DEPARTMENT OF HOMELAND SECURITY

Coast Guard

[Docket No. USCG-2021-0178]

Consolidation of Redundant Coast Guard Boat Stations—Decision

AGENCY: Coast Guard, DHS.

ACTION: Notice of decision.

SUMMARY: On February 14, 2020, the Coast Guard announced the potential consolidation of several redundant Coast Guard boat stations and solicited public comments to inform the decision making process. After reading the public comments, the Coast Guard has decided to consolidate four (4) Coast Guard boat stations to increase staffing and capacity levels at nearby boat stations that are better equipped to respond to calls for rescue.

FOR FURTHER INFORMATION CONTACT: For information about this document call or email Todd Aikins, Coast Guard Office of Boat Forces; telephone 202-372-2463], email todd.r.aikins@uscg.mil.

SUPPLEMENTARY INFORMATION:

Background and Purpose

This notice is issued under authority of 14 U.S.C. 909 and 910. The Coast Guard engaged in public outreach and connected with locals in the area of the boat stations to be closed. Opportunities were provided for a public meeting, but because of the pandemic it was decided that such collaboration was better done virtually.

Response to Public Comments

The Coast Guard received 111 distinct public submissions in response to the Federal Register Notice. Five supported the consolidations, while 106 raised concerns (one of the five supporting comments recommended consolidating a single station as a proof of concept).

In the following discussion, we summarize the reasons or information some commenters gave in support of their position or recommendation. After each summary, we state our response.

No comments were submitted with concerns about the consolidation of Station(small) Roosevelt Inlet.

No comments were submitted with concerns about the consolidation of Station(small) Salem.

Two comments were submitted with concerns about the consolidation of Station(small) Shark River. One comment noted that a fast response is needed in the area, while the other asked that the decision be postponed until after the local COVID stay-at-home orders were lifted. The Coast Guard complied with the latter comment, and is following the findings of contractor analyses and the referenced GAO report that finds the remaining response sufficient in this area, most notably from Station Manasquan Inlet, fewer than ten miles away.

Four comments were submitted with concerns about the consolidation of Station(small) Fishers Island. All comments noted the area near Race Rock Lighthouse and its treacherous current, necessitating a fast Coast Guard Response. The Coast Guard is following the findings of contractor analyses and the referenced GAO report that finds the remaining response sufficient in this area, most notably from Station New London, fewer than ten miles away.

One hundred comments were submitted with concerns about the consolidation of Station Oxford. Twenty comments were general in nature, stating that the station is important and should not be closed. 69 comments noted that the area near Station Oxford is heavily worked and traveled, local resources have limited crews and hours, and that response from Station Annapolis would take too long. Six comments noted that Station Oxford was necessary for local triathlons, regattas, and other races. Three comments noted that boat safety checks are crucial to limiting the number of mariners in distress in the area. One comment noted that Station Oxford is critical to LMR in Terrapin Cover. One commenter felt that the data used in the studies was outdated and took issue with the fact that only the Coast Guard Districts with the most redundancy were included in the analyses instead of every station. In response to these concerns, Station Oxford will be removed as a candidate for closure in FY21 and analyzed further.

Dated: March 23, 2021.
J.B. Rush,
Captain, U.S. Coast Guard, Chief, Office of Boat Forces.

[FR Doc. 2021-06461 Filed 3-29-21; 8:45 am]

BILLING CODE 9110-04-P